DEPARTMENT OF COMMERCE

Foreign-Trade Zones Board

[B-49-2016]

Foreign-Trade Zone (FTZ) 279—Terrebonne Parish, Louisiana; Notification of Proposed Production Activity; Thoma-Sea Marine Constructors, LLC, Subzone 279A (Shipbuilding), Houma and Lockport, Louisiana

The Houma-Terrebonne Airport Commission, grantee of FTZ 279, submitted a notification of proposed production activity to the FTZ Board on behalf of Thoma-Sea Marine Constructors, LLC (Thoma-Sea), located in Houma and Lockport, Louisiana. The notification conforming to the requirements of the regulations of the FTZ Board (15 CFR 400.22) was received on July 27, 2016.

Thoma-Sea already has authority for the construction and repair of oceangoing vessels within Subzone 279A. The current request would add a foreign status material/component to the scope of authority. Pursuant to 15 CFR 400.14(b), additional FTZ authority would be limited to the specific foreign-status material/component and specific finished product described in the submitted notification (as described below) and subsequently authorized by the FTZ Board.

Production under FTZ procedures could exempt Thoma-Sea from customs duty payments on the foreign-status materials/components used in export production. On its domestic sales, Thoma-Sea would be able to choose the duty rate during customs entry procedures that applies to offshore supply ships and vessels (duty-free) for the foreign-status materials/components noted below and in the existing scope of authority. Customs duties also could possibly be deferred or reduced on foreign-status production equipment.

The additional material/component sourced from abroad is: Tunnel thrusters (duty-free).

Public comment is invited from interested parties. Submissions shall be addressed to the Board's Executive Secretary at the address below. The closing period for their receipt is September 12, 2016.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: July 27, 2016.
Andrew McGilvray,
Executive Secretary.

[FR Doc. 2016-18350 Filed 8-1-16; 8:45 am]

BILLING CODE 3510-DS-P